DEPARTMENT OF TRANSPORTATION

Pipeline and Hazardous Materials Safety Administration

[Docket No. PHMSA-2010-0042]

Pipeline Safety: Request for Special Permit

AGENCY: Pipeline and Hazardous Materials Safety Administration (PHMSA); DOT.

ACTION: Notice.

SUMMARY: PHMSA is providing an additional comment period of 30 days from the date of publication of this notice in relation to the Federal Register Notice issued on July 26, 2010, (75 FR 43612). In that notice, PHMSA requested comments concerning a special permit request from Dominion Transmission Incorporated (DTI). DTI requested relief from certain provisions of 49 CFR 192.611. PHMSA is extending the comment period in order to clarify the exact location of the special permit segment and to allow the public to review additional documents added to the docket since the original notice.

DATES: Submit any comments regarding this special permit request by October 14, 2010.

ADDRESSES: Comments should reference the docket number for this specific special permit request and may be submitted in the following ways:

• E-Gov Web Site: http://www.Regulations.gov. This site allows the public to enter comments on any Federal Register notice issued by any agency.

• Fax: 1-202-493-2251.

• Mail: Docket Management System: United States Department of Transportation, Docket Operations, M-30, West Building Ground Floor, Room W12-140, 1200 New Jersey Avenue, SE., Washington, DC 20590.

• Hand Delivery: DOT Docket Management System: U.S. Department of Transportation, Docket Operations, M-30, West Building Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Dana Register by telephone at 202-366-0490; or, e-mail at dana.register@dot.gov.

Technical: Joshua Johnson by telephone at 816-329-3825; or, e-mail at joshua.johnson@dot.gov.

SUPPLEMENTARY INFORMATION: PHMSA has received a request for a special permit from Dominion Transmission Inc., seeking relief from compliance with certain pipeline safety regulations. Dominion's request includes a technical analysis. This request can be found at http://www.Regulations.gov under docket number PHMSA-2010-0121. We invite interested persons to participate by reviewing this special permit request at http://www.Regulations.gov, and by submitting written comments, data or other views. Please include any comments on potential environmental impacts that may result if this special permit is granted.

Before acting on this special permit request, PHMSA will evaluate all comments received on or before the comment closing date. Comments will be evaluated after this date if it is possible to do so without incurring additional expense or delay. PHMSA will consider each relevant comment we receive in making our decision to grant or deny a request.

PHMSA has received the following special permit request:

Docket No. | Requester | Regulation | Nature of special permit
PHMSA-2010-0121 | Dominion Transmission Incorporated (DTI) | 49 CFR 192.611 | To authorize DTI to engage in an alternative approach to conduct risk control activities based on Integrity Management Program principles rather than lowering the MAOP or replacing the subject pipe segment. This application is for one segment of the DTI Line TL-465 in Loudoun County, Virginia. This segment has changed from a Class 1 location to a Class 3 location due to an expanded housing development. The pipeline is 24-inches in diameter and has a MAOP of 1,250 psig. The segment that has changed Class location is 3,478 feet in length and is located at MP 1085+81 ft. to MP 1,120+59 ft.

Authority: 49 U.S.C. 60118 (c)(1) and 49 CFR 1.53.

Issued in Washington, DC, on August 31, 2010.
Linda Daugherty,
Deputy Associate Administrator for Policy and Programs.

[FR Doc. 2010-22884 Filed 9-13-10; 8:45 am]

BILLING CODE 4910-60-P